DEPARTMENT OF DEFENSE

Defense Acquisition Regulations System

48 CFR Parts 226 and 252

RIN 0750-AH85

Defense Federal Acquisition Regulation Supplement: Encouragement of Science, Technology, Engineering, and Mathematics (STEM) Programs (DFARS Case 2012-D027)

AGENCY: Defense Acquisition Regulations System, Department of Defense (DoD).

ACTION: Proposed rule.

SUMMARY: DoD is proposing to amend the Defense Federal Acquisition Regulation Supplement (DFARS) to implement a section of the National Defense Authorization Act for Fiscal Year 2012, which requires DoD to take steps to encourage contractors to develop science, technology, engineering, and mathematics (STEM) programs.

DATES: Comment date: Comments on the proposed rule should be submitted in writing to the address shown below on or before April 29, 2013, to be considered in the formation of a final rule.

ADDRESSES: Submit comments identified by DFARS Case 2012-D027, using any of the following methods:

Regulations.gov: http://www.regulations.gov. Submit comments via the Federal eRulemaking portal by entering “DFARS Case 2012-D027” under the heading “Enter keyword or ID” and selecting “Search.” Select the link “Submit a Comment” that corresponds with “DFARS Case 2012-D027.” Follow the instructions provided at the “Submit a Comment” screen. Please include your name, company name (if any), and “DFARS Case 2012-D027” on your attached document.

○ Email: dfars@osd.mil. Include DFARS Case 2012-D027 in the subject line of the message.

○ Fax: 571-372-6094.

○ Mail: Defense Acquisition Regulations System, Attn: Mr. Dustin Pitsch, OUSD(AT&L)DPAP/DARS, Room 3B855, 3060 Defense Pentagon, Washington, DC 20301-3060.

Comments received generally will be posted without change to http://www.regulations.gov, including any personal information provided. To confirm receipt of your comment(s), please check www.regulations.gov, approximately two to three days after submission to verify posting (except allow 30 days for posting of comments submitted by mail).

FOR FURTHER INFORMATION CONTACT: Mr. Dustin Pitsch, telephone 571-372-6090.

SUPPLEMENTARY INFORMATION:

I. Background

DoD is proposing to revise the DFARS to implement section 862 of the National Defense Authorization Act (NDAA) for Fiscal Year 2012 (FY12), which requires DoD to encourage contractors to develop science, technology, engineering, and mathematics (STEM) programs. STEM programs are, programs or initiatives, either formal or informal, which encourage the pursuit of education and experience in the Science, Technology, Engineering, and Mathematics disciplines such as—

• Enhancing undergraduate, graduate, and doctoral programs in science, technology, engineering, and mathematics;

• Programming and curriculum development in elementary and secondary schools;

• Encouraging employees to volunteer in Title I schools in order to enhance STEM education and programs;

• Making personnel available to advise and assist STEM faculty at colleges and universities in the performance of STEM research and disciplines critical to the Department of Defense;

• Establishing partnerships between the offeror and historically black colleges and universities and minority institutions for the purpose of training students in the STEM disciplines;

• Awarding scholarships and fellowships for undergraduate and graduate programs, and establishing cooperative work-education programs in the STEM disciplines; or

• Conducting recruitment activities at historically black colleges and universities and minority institutions or offer internships or apprenticeships in the STEM disciplines.

II. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. The Office of Information and Regulatory Affairs has determined that this is not a significant regulatory action and, therefore, was not subject to review under section 6(b) of E.O. 12866, Regulatory Planning and Review, dated September 30, 1993. This rule is not a major rule under 5 U.S.C. 804.

III. Regulatory Flexibility Act

DoD does not expect this rule to have a significant economic impact on a substantial number of small entities within the meaning of the Regulatory Flexibility Act, 5 U.S.C. 601, et seq. However, an initial regulatory flexibility analysis has been performed and is summarized as follows:

This rule is required by section 862 of the National Defense Authorization Act for Fiscal Year 2012 (Pub. L. 112-81). The objective of this rule is to take steps to encourage contractors to develop science, technology, engineering, and math (STEM) programs. The legal basis for this rule is section 862 of the National Defense Authorization Act for Fiscal Year 2012.

This will apply to all DoD contractors, both large and small.

There are no reporting, recordkeeping or other compliance requirements associated with this rule. This rule only encourages contractors, to the maximum extent practicable, to develop science, technology, engineering, and mathematics (STEM) programs. The contractor is not required to develop STEM programs or to report on this activity.

The rule does not duplicate, overlap, or conflict with any other Federal rules. DoD did not identify any significant alternatives that would satisfy the requirements of the statute. However, this rule does not impose any requirements on small business concerns.

DoD invites comments from small business concerns and other interested parties on the expected impact of this rule on small entities.

DoD will also consider comments from small entities concerning the existing regulations in subparts affected by this rule in accordance with 5 U.S.C. 610. Interested parties must submit such comments separately and should cite 5 U.S.C. 610 (DFARS Case 2012-D027), in correspondence.

IV. Paperwork Reduction Act

The rule does not contain any information collection requirements that require the approval of the Office of Management and Budget under the Paperwork Reduction Act (44 U.S.C. chapter 35).

List of Subjects in 48 CFR Parts 226 and 252

Government procurement.

Manuel Quinones
Editor, Defense Acquisition Regulations System.

Therefore, DoD proposes to amend 48 CFR parts 226 and 252 as follows:

PART 226—OTHER SOCIOECONOMIC PROGRAMS

1. The authority citation for part 226 is revised to read as follows:

Authority: 41 U.S.C. 1303 and 48 CFR chapter 1.

2. Add subpart 226.72 to read as follows:

Subpart 226.72—Encouragement of Science, Technology, Engineering, and Mathemathics (STEM) Programs

Sec.
226.7200 Scope of subpart.
226.7201 Definition.
226.7202 Applicability.
226.7203 Policy.
226.7204 Contract clause.

226.7200 Scope of subpart.

This subpart implements section 862 of the National Defense Authorization Act for Fiscal Year 2012 (Pub. L. 112-81).

226.7201 Definition.

“Science, Technology, Engineering, and Mathematics (STEM) Programs,” as used in this subpart, means programs or incentives, either formal or informal, that encourage the pursuit of education and experience in the science, technology, engineering, and mathematics disciplines.

226.7202 Applicability.

This subpart applies to all solicitations and contracts.

226.7203 Policy.

DoD encourages contractors to undertake actions, to the maximum extent practicable, that—

(a) Enhance undergraduate, graduate, and doctoral programs in science, technology, engineering, and mathematics (referred to as “STEM” disciplines);

(b) Make investments, such as programming and curriculum development, in STEM programs within elementary and secondary schools;

(c) Encourage employees to volunteer in Title I schools in order to enhance STEM education and programs;

(d) Make personnel available to advise and assist faculty at such colleges and universities in the performance of STEM research and disciplines critical to the functions of DoD;

(e) Establish partnerships between the contractor and historically black colleges and universities and minority institutions for the purpose of training students in scientific disciplines;

(f) Award scholarships and fellowships, and establish cooperative work-education programs in scientific disciplines; or

(g) Conduct recruitment activities at historically black colleges and universities and other minority-serving institutions or offer internships or apprenticeships.

226.7204 Contract clause.

The contracting officer shall insert the clause at 252.226-70XX, Encouragement of Science, Technology, Engineering, and Mathematics (STEM) Programs, in all solicitations and contracts.

PART 252—SOLICITATION PROVISIONS AND CONTRACT CLAUSES

4. The authority citation for part 252 continues to read as follows:

Authority: 41 U.S.C. 1303 and 48 CFR chapter 1.

5. Section 252.226-70XX is added to read as follows:

252.226-70XX Encouragement of Science, Technology, Engineering, and Mathematics (STEM) Programs.

As prescribed in 226.7204, insert the following clause:

Encouragement of Science, Technology, Engineering, and Mathematics (STEM) Programs (Date)

(a) Definition.

“Science, Technology, Engineering, and Mathematics (STEM) Programs,” as used in this clause, means programs and or incentives, either formal or informal, that encourage the pursuit of education and experience in the science, technology, engineering, and mathematics disciplines.

(b) In accordance with section 862 of the National Defense Authorization Act for Fiscal Year 2012 (Pub. L. 112-81), the Contractor is encouraged to undertake actions, to the maximum extent practicable, that—

(1) Enhance undergraduate, graduate, and doctoral programs in science, technology, engineering, and mathematics (referred to as “STEM” disciplines);

(2) Make investments, such as programming and curriculum development, in STEM programs within elementary and secondary schools;

(3) Encourage employees to volunteer in Title I schools in order to enhance STEM education and programs;

(4) Make personnel available to advise and assist faculty at such colleges and universities in the performance of STEM research and disciplines critical to the functions of DoD;

(5) Establish partnerships between the contractor and historically black colleges and universities and minority institutions for the purpose of training students in scientific disciplines;

(6) Award scholarships and fellowships, and establish cooperative work-education programs in scientific disciplines; or

(7) Conduct recruitment activities at historically black colleges and universities and other minority-serving institutions or offer internships or apprenticeships.

(c) Costs. (1) The Contractor shall assume the responsibility for all the costs and investments in support of the STEM disciplines.

(2) The Contractor will not be reimbursed for any costs incurred or associated with the support of the STEM disciplines. Any costs incurred for supporting the STEM disciplines are unallowable under this contract.

(End of clause)

[FR Doc. 2013-04352 Filed 2-27-13; 8:45 am]

BILLING CODE 5001-06-P